DEPARTMENT OF THE TREASURY

Notice of Geographic Targeting Order

AGENCY: Financial Crimes Enforcement Network, Treasury.

ACTION: Notice.

SUMMARY: This document provides notice that, pursuant to 31 U.S.C. 5326(a), the Director of the Financial Crimes Enforcement Network (“FinCEN”), U.S. Department of the Treasury, issued on July 13, 2015 a Geographic Targeting Order (“Order”) requiring check cashers located in two South Florida counties to obtain and record identifying information about persons cashing Federal tax refund checks in excess of $1,000, as further described in the Order.

DATES: This Notice is effective on July 17, 2015.

FOR FURTHER INFORMATION CONTACT: All questions about the Order must be addressed to the FinCEN Resource Center at (800) 767-2825 (Monday through Friday, 8:00 a.m.-6:00 p.m. EST).

SUPPLEMENTARY INFORMATION: The Geographic Targeting Order is published as an attachment to this notice.

Jennifer Shasky Calvery,
Director, Financial Crimes Enforcement Network, U.S. Department of Treasury.

Geographic Targeting Order

I. Authority

The Director of FinCEN may issue an order that imposes certain additional recordkeeping and reporting requirements on one or more domestic financial institutions or nonfinancial trades or businesses in a geographic area. See 31 U.S.C. 5326(a); 31 CFR 1010.370; Treasury Order 180-01. Pursuant to this authority, the Director of FinCEN hereby finds that reasonable grounds exist for concluding that the additional recordkeeping requirements described below are necessary to carry out the purposes of the Bank Secrecy Act and prevent evasions thereof.¹

¹ The Bank Secrecy Act is codified at 12 U.S.C. 1829b, 1951-1959 and 31 U.S.C. 5311-5314, 5316-5332. Regulations implementing the Bank Secrecy Act appear at 31 CFR Chapter X.

II. Additional Recordkeeping Requirements

A. Check Cashers and Transactions Covered by This Order

For purposes of this Order, a “Covered Business” means a check casher, as defined under 31 CFR 1010.100(ff)(2), that maintains a location (including a branch or agent location) in one of the following counties in the State of Florida: Miami-Dade County or Broward County (the “Covered Geographic Area”).

For purposes of this Order, a “Covered Transaction” means any transaction in which a Covered Business cashes a Federal tax refund check in excess of $1,000 within the Covered Geographic Area. A Federal tax refund check includes (i) a U.S. Treasury check used to pay a tax refund, or (ii) a check issued by a third party in connection with an anticipated Federal tax refund (e.g., a Refund Anticipation Loan check).

B. Records Required To Be Obtained by a Covered Business When Engaging in a Covered Transaction

If a Covered Business engages in a Covered Transaction, the Covered Business must obtain at the time of the Covered Transaction and record the following identifying information about the customer conducting the transaction:

(i) A copy of the customer's valid government-issued identification, which must evidence nationality or residence, include a photograph of the customer, and be issued in the same name as that of the original payee of the check; ²

² For example, a driver's license or passport are acceptable forms of identification.

(ii) a clear digital photograph of the customer taken at the time of the Covered Transaction that matches the photograph depicted on the identification provided by the customer; ³

³ An image captured by a surveillance video is not sufficient to satisfy this photograph requirement.

(iii) the customer's phone number; and

(iv) a clear original thumbprint of the customer that is recorded on the check.

C. Retention of Records

A Covered Business must: (i) Retain all records relating to compliance with this Order for a period of five years from the last day that this Order is effective (including any renewals of this Order); (ii) store such records in a manner accessible within a reasonable period of time; and (iii) make such records available to FinCEN or any other appropriate law enforcement or regulatory agency, upon request.

III. General Provisions

A. Definitions

All terms used but not otherwise defined herein have the meaning set forth in Chapter X of Title 31 of the United States Code of Federal Regulations.

B. Order Period

The terms of this Order are effective beginning on August 3, 2015 and ending on January 30, 2016 (except as otherwise provided in Section II(C) above).

C. No Effect on Other Provisions of the Bank Secrecy Act

Nothing in this Order modifies or otherwise affects any provision of the regulations implementing the Bank Secrecy Act to the extent not expressly stated herein.

D. Compliance

A Covered Business must supervise, and is responsible for, compliance by each of its officers, directors, and employees with the terms of this Order. A Covered Business must transmit the Order to its Chief Executive Officer or other similarly acting manager.

E. Penalties for Noncompliance

A Covered Business and any of its officers, directors, employees, or agents may be liable, without limitation, for civil and/or criminal penalties for violating any of the terms of this Order.

F. Validity of Order

Any judicial determination that any provision of this Order is invalid does not affect the validity of any other provision of this Order, and each other provision must thereafter remain in full force and effect. A copy of this Order carries the full force and effect of an original signed Order.

G. Paperwork Reduction Act

The collection of information subject to the Paperwork Reduction Act contained in this Order has been approved by the Office of Management and Budget (“OMB”) and assigned OMB Control Number 1506-0056.

H. Questions

All questions about the Order must be addressed to the FinCEN Resource Center at (800) 767-2825 (Monday through Friday, 8:00 a.m.-6:00 p.m. EST).

Dated: July 8, 2015.
Jennifer Shasky Calvery,
Director, Financial Crimes Enforcement Network, U.S. Department of the Treasury.

[FR Doc. 2015-17572 Filed 7-16-15; 8:45 am]

BILLING CODE 4810-02-P